DEPARTMENT OF HEALTH AND HUMAN SERVICES

Centers for Disease Control and Prevention

[30Day-11-0260]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Health Hazard Evaluation/Technical Assistance and Emerging Problems—Revision (OMB No. 0920-0260 Exp. 1/31/2012)—National Institute for Occupational Safety and Health (NIOSH), Centers for Disease Control and Prevention (CDC).

Background and Brief Description

In accordance with its mandates under the Occupational Safety and Health Act of 1970 and the Federal Mine Safety and Health Act of 1977, the National Institute for Occupational Safety and Health (NIOSH) responds to requests for health hazard evaluations (HHE) to identify chemical, biological or physical hazards in workplaces throughout the United States. Each year, NIOSH receives approximately 320 such requests. Most HHE requests come from the following types of companies: service, manufacturing companies, health and social services, transportation, construction, agriculture, mining, skilled trade and construction.

A printed Health Hazard Evaluation request form is available in English and in Spanish. The form is also available on the Internet and differs from the printed version only in format and in the fact that it uses an Internet address to submit the form to NIOSH. Both the printed and Internet versions of the form provide the mechanism for employees, employers, and other authorized representatives to supply the information required by the regulations governing the NIOSH Health Hazard Evaluation program (42 CFR 85.3-1). In general, if employees are submitting the form it must contain the signatures of three or more current employees. However, regulations allow a single signature if the requestor: is one of three (3) or fewer employees in the process, operation, or job of concern; or is any officer of a labor union representing the employees for collective bargaining purposes. An individual management official may request an evaluation on behalf of the employer. The information provided is used by NIOSH to determine whether there is reasonable cause to justify conducting an investigation and provides a mechanism to respond to the requestor.

In the case of 25% to 50% of the health hazard evaluation requests received, NIOSH determines an on-site evaluation is needed. The primary purpose of an on-site evaluation is to help employers and employees identify and eliminate occupational health hazards. In most on-site evaluations employees are interviewed to help further define concerns, and in approximately 50% these evaluations (presently estimated to be about 80 facilities), questionnaires are distributed to the employees (averaging about 40 employees per site for this last subgroup). The interview and survey questions are specific to each workplace and its suspected diseases and hazards, however, items are derived from standard medical and epidemiologic techniques. The request forms take an estimated 12 minutes to complete. The interview forms take 15-30 minutes to complete.

NIOSH distributes interim and final reports of health hazard evaluations, excluding personal identifiers, to: requesters, employers, employee representatives; the Department of Labor (Occupational Safety and Health Administration or Mine Safety and Health Administration, as appropriate); and, as needed, other federal, state, and local agencies.

NIOSH administers a follow-back program to assess the effectiveness of its health hazard evaluation program in reducing workplace hazards. This program entails the mailing of follow-back questionnaires to employer and employee representatives at all the workplaces where NIOSH conducted site visits. In a small number of instances, a follow-back on-site evaluation may be conducted. The initial follow-back questionnaire is administrated immediately following the site visits and takes about 10 minutes. Another follow-back questionnaire is sent a year later and requires about 15 minutes to complete. At 24 months, a final follow-back questionnaire regarding the completed evaluation is sent which takes about 15 minutes to complete.

For requests where NIOSH does not conduct an onsite evaluation, the requester receives a follow-back questionnaire 12 months after our response and a second one 24 months after our response. The first questionnaire takes about 10 minutes to complete and the second questionnaire takes about 15 minutes to complete. Because of the large number of investigations conducted each year, the need to respond quickly to requests for assistance, the diverse and unpredictable nature of these investigations, and its follow-back program to assess evaluation effectiveness; NIOSH requests a clearance of the revised information collection package for data collections performed within the domain of its health hazard evaluation program. There is no cost to respondents other than their time. The total estimated annual burden hours are 2874.

Estimated Annualized Burden Hours
Type of respondent | Form | Number of respondents | Number of responses per resondent | Average burden per response in hours
Employees and Representatives; | Health Hazard Evaluation Request Form | 211 | 1 | 12/60
Employers | Health Hazard Evaluation Request Form | 109 | 1 | 12/60
Employees | Health Hazard Evaluation specific interview example | 3200 | 1 | 15/60
Employees | Health Hazard Evaluation specific questionnaire example | 3440 | 1 | 30/60
Followback for onsite evaluations for Management, Labor and Requester Year 1 | Initial Site Visit survey form | 320 | 1 | 15/60
| Year 1-Closeout for HHE with an OnSite Evaluation | 320 | 1 | 15/60
| Year 2-1 year Later HHE with an On Site Evaluation | 320 | 1 | 15/60
Followback for evaluations for Management, Labor and Requester without onsite evaluation | Year 1-Closeout Survey cover letter and Forms | 120 | 1 | 10/60
| Year 2-Closeout Survey Cover Letter and Forms | 120 | 1 | 15/60

Dated: September 13, 2011.
Daniel Holcomb,
Reports Clearance Officer, Centers for Disease Control and Prevention.

[FR Doc. 2011-24187 Filed 9-20-11; 8:45 am]

BILLING CODE 4163-18-P